DEPARTMENT OF LABOR

Employment and Training Administration

[TA-W-51,340]

Sprint United Management Co., Rosemont Center, Rosemont, IL; Notice of Negative Determination Regarding Application for Reconsideration

By application of May 20, 2003, a petitioner requested administrative reconsideration of the Department's negative determination regarding eligibility for workers and former workers of the subject firm to apply for Trade Adjustment Assistance (TAA). The denial notice applicable to workers of Sprint United Management Company, Rosemont Center, Rosemont, Illinois was signed on April 9, 2003, and published in the Federal Register on April 24, 2003 (68 FR 20177).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Sprint United Management Company, Rosemont Center, Rosemont, Illinois engaged in selling long distance services. The petition was denied because the petitioning workers did not produce an article within the meaning of section 222(3) of the Act.

In the request for reconsideration, the petitioners state that the Department erred in describing worker activities as “selling long distance services”. As clarification, they stated that they worked for “Sprint Long Distance Collections Dept.”

In order to meet eligibility requirements, the petitioning worker group must be engaged in production; collection services do not constitute production within the meaning of Section 222(3) of the Trade Act.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 16th day of June, 2003.
Elliott S. Kushner,
Certifying Officer, Division of Trade Adjustment Assistance.

[FR Doc. 03-16904 Filed 7-2-03; 8:45 am]

BILLING CODE 4510-30-P